DEPARTMENT OF ENERGY

Federal Energy Regulatory Commission

[Project No. 2459-279]

Lake Lynn Generation, LLC; Notice of Reasonable Period of Time for Water Quality Certification Application

On February 17, 2025, Lake Lynn Generation, LLC (Lake Lynn Generation) submitted to the Federal Energy Regulatory Commission (Commission) documentation from the West Virginia Department of Environmental Protection (West Virginia DEP) that it received Lake Lynn Generation's request for a Clean Water Act section 401(a)(1) water quality certification as required by 40 CFR 121.5, for the above captioned project on February 13, 2025. On March 13, 2025, West Virginia DEP accepted the application as complete.¹ Pursuant to section 5.23(b) of the Commission's regulations,² we hereby notify West Virginia DEP of the following:

¹ See https://elibrary.ferc.gov/eLibrary/filedownload?fileid=AB5F5987-FFBF-CA82-9746-95DDFD300000.

² 18 CFR [4.34(b)(5)/5.23(b)/153.4/157.22].

Date of Receipt of the Certification Request: March 13, 2025.

Reasonable Period of Time to Act on the Certification Request: March 13, 2026.

If West Virginia DEP fails or refuses to act on the water quality certification request on or before the above date, then the agency certifying authority is deemed waived pursuant to section 401(a)(1) of the Clean Water Act, 33 U.S.C. 1341(a)(1).

Dated: April 14, 2025.
Debbie-Anne A. Reese,
Secretary.

[FR Doc. 2025-06743 Filed 4-17-25; 8:45 am]

BILLING CODE 6717-01-P